DEPARTMENT OF THE TREASURY

Office of Thrift Supervision

12 CFR Part 562

[No. 2002-54]

RIN 1550-AB54

Regulatory Reporting Standards: Qualifications for Independent Public Accountants Performing Audit Services for Voluntary Audit Filers

AGENCY: Office of Thrift Supervision, Treasury.

ACTION: Interim final rule with request for comments; correction.

SUMMARY: The Office of Thrift Supervision (OTS) published in the Federal Register of November 25, 2002, a document concerning amending its annual independent audit requirements for small, non-public, highly rated savings associations that voluntarily obtain independent audits. Inadvertently, the comment period was incorrectly stated. This document corrects that comment period.

DATES: Effective on December 10, 2002.

FOR FURTHER INFORMATION CONTACT: Christine Smith, Project Manager, (202) 906-5740, Examination Policy Division, or Teresa A. Scott, Counsel (Banking & Finance), (202) 906-6478, Regulations and Legislation Division, Office of Thrift Supervision, 1700 G Street, NW., Washington, DC 20552.

SUPPLEMENTARY INFORMATION: OTS published a document in the Federal Register of November 25, 2002 (67 FR 70529), FR Doc. 02-29833, that inadvertently stated an incorrect comment period. This correction sets forth the correct comment period.

In rule FR Doc. 02-29833, published on November 25, 2002 (67 FR 70529), make the following correction. On page 70530, in the first column, remove the date “December 26, 2002” and add, in its place, “January 27, 2003”.

Dated: November 27, 2002.
By the Office of Thrift Supervision.
Marilyn K. Burton,
Federal Register Liaison Officer.

[FR Doc. 02-30853 Filed 12-9-02; 8:45 am]

BILLING CODE 6720-01-P